DEPARTMENT OF THE INTERIOR

Bureau of Safety and Environmental Enforcement

[Docket ID BSEE-2015-0007; OMB Control Number 1014-0013; 15XE1700DX EEEE500000 EX1SF0000.DAQ000]

Information Collection Activities: Global Positioning Systems (GPS) for Mobile Offshore Drilling Units (MODUs) NTL; Proposed Collection; Comment Request

ACTION: 60-Day notice.

SUMMARY: To comply with the Paperwork Reduction Act of 1995 (PRA), BSEE is inviting comments on a collection of information that we will submit to the Office of Management and Budget (OMB) for review and approval. The information collection request (ICR) concerns a renewal to the paperwork burden under the collection, GPS for MODUs NTL.

DATES: You must submit comments by July 21, 2015.

ADDRESSES: You may submit comments by either of the following methods listed below.

• Electronically go to http://www.regulations.gov. In the Search box, enter BSEE-2015-0007 then click search. Follow the instructions to submit public comments and view all related materials. We will post all comments.

• Email cheryl.blundon@bsee.gov. Mail or hand-carry comments to the Department of the Interior; Bureau of Safety and Environmental Enforcement; Regulations and Standards Branch; ATTN: Cheryl Blundon; 45600 Woodland Road, Sterling, VA 20166. Please reference ICR 1014-0013 in your comment and include your name and return address.

FOR FURTHER INFORMATION CONTACT: Cheryl Blundon, Regulations and Standards Branch at (703) 787-1607 to request additional information about this ICR.

SUPPLEMENTARY INFORMATION:

Title: Global Positioning Systems (GPS) for Mobile Offshore Drilling Units (MODUs) NTL.

OMB Control Number: 1014-0013.

Abstract: The Outer Continental Shelf (OCS) Lands Act, as amended (43 U.S.C. 1331 et seq. and 43 U.S.C. 1801 et seq.), authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; to preserve and maintain free enterprise competition; and to ensure that the extent of oil and natural gas resources of the OCS is assessed at the earliest practicable time. Section 43 U.S.C. 1332(6) states that “operations in the outer Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

To carry out these responsibilities, the Bureau of Safety and Environmental Enforcement (BSEE) issues regulations to ensure that operations in the OCS will meet statutory requirements; provide for safety and protect the environment; and result in diligent exploration, development, and production of OCS leases. In addition, we also issue Notice to Lessees (NTLs) that provide clarification, explanation, and interpretation of our regulations. These NTLs are used to convey purely informational material and to cover situations that might not be adequately addressed in our regulations.

The subject of this information collection (IC) request is an NTL, GPS (Global Positioning System) for MODUs (Mobile Offshore Drilling Units). This NTL requires MODUs to be equipped with multiple tracking/location devices so that during a storm event (hurricane) the respondent, as well as BSEE, will have the capability to monitor their locations. This NTL also provides BSEE GPS data access thereby granting BSEE real-time location information as needed for the Hurricane Response Team (HRT).

The primary regulation for this IC is 30 CFR 250, Subpart A, approved under the OMB Control Number 1014-0013. However, in connection with this subpart, the burden requirements in the NTL are in addition to the currently approved paperwork burdens under those requirements.

After Hurricane Ike, 2008, due to the loss of an ENSCO MODU, the National Oceanic and Atmospheric Administration and US Army Corps of Engineers conducted numerous side-sonar searches for dangerous submerged debris in several places in and around the Gulf of Mexico waters, including off the Louisiana coast, the Houston Ship Channel, and the Galveston areas. These searches continued for numerous days, with multiple government agencies, and covered well over 75 square statute miles. Nothing was found.

On March 6, 2009, the SKS Satilla, a 900-ft Norwegian flagged tank ship carrying approximately 130K MT of crude oil, reported listing 8 degrees and taking on water about 65-miles offshore of Galveston, TX. It was determined that the SKS Satilla had hit the sunken MODU that was submerged approximately 24 feet below the surface of the water, that had been missing since Hurricane Ike. The MODU was displaced off the coast of Louisiana during Hurricane Ike and ended up off the coast of Galveston, roughly 105 miles away.

The information to be collected is necessary for BSEE to assess the whereabouts of any MODU becoming unmoored due to extreme weather situations; as well as, to follow the path of that facility to determine if other facilities/pipelines, etc., were damaged in any way. The offshore oil and gas industry will use the information to determine the safest and quickest way to either remove the obstacles or to fix and reuse them.

No questions of a sensitive nature are asked. We protect proprietary information according to the Freedom of Information Act (5 U.S.C. 552) and DOI's implementing regulations (43 CFR 2); 30 CFR 250.197, Data and information to be made available to the public or for limited inspection; and 30 CFR part 252, OCS Oil and Gas Information Program. Responses are mandatory.

Frequency: On occasion.

Description of Respondents: Potential respondents comprise Federal oil, gas, or sulphur lessees and/or operators.

Estimated Reporting and Recordkeeping Hour Burden: The currently approved annual reporting burden for this collection is 1 hour and $102,500 non-hour cost burden. In this submission, we are requesting the same hour and non-hour cost burdens. The following chart details the individual components and respective hour burden estimates of this ICR. In calculating the burdens, we assumed that respondents perform certain requirements in the normal course of their activities. We consider these to be usual and customary and took that into account in estimating the burden.

Burden Table
NTL—Gulf of Mexico OCS region—GPS for MODUs | Non-hour cost burdens: Hour burden | Non-hour cost burdens: Average number of annual responses | Non-hour cost burdens: Annual burden hours
1—Notify BSEE with tracking/locator data access and supporting information; notify BSEE Hurricane Response Team as soon as operator is aware a rig has moved off location | 15 mins 15 mins | 1 rig * 1 notification * | 1 hour (rounded).
2—Purchase and install tracking/locator devices—(these are replacement GPS devices or new rigs) | 20 devices per year for replacement and/or new × $325.00 = $6,500
3—Pay monthly tracking fee for GPS devices already placed on MODUs/rig | 40 rigs at $50/month = $600/year = $24,000
4—Rent GPS devices and pay monthly tracking fee per rig | 40 rigs @$1,800 per year = $72,000
Total burden |  | 102 responses | 1 hour.
$102,500 non-hour cost burden.

Estimated Reporting and Recordkeeping Non-Hour Cost Burden: We have identified three non-hour cost burdens for this collection, which are described and shown in the table. We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment-including your personal identifying information-may be made publicly available at any time. While you can ask us in your comment to withhold your personal identifying information from public review, we cannot guarantee that we will be able to do so.

Dated: May 14, 2015.
Douglas W. Morris,
Chief, Office of Offshore Regulatory Programs.

[FR Doc. 2015-12303 Filed 5-21-15; 8:45 am]

BILLING CODE 4310-VH-P